DEPARTMENT OF AGRICULTURE

Forest Service

National Advisory Committee for Implementation of the National Forest System Land Management Planning Rule

AGENCY: Forest Service, USDA.

ACTION: Notice of meeting.

SUMMARY: The National Advisory Committee for Implementation of the National Forest System Land Management Planning Rule will meet in Fort Collins, Colorado. The committee operates in compliance with the Federal Advisory Committee Act. The purpose of the committee is to provide advice and recommendations on the implementation of the National Forest System Land Management Rule. The meeting is also open to the public. The purpose of the meeting is to initiate deliberations on formulating advice to the Secretary on the Proposed Land Management Planning Directives.

DATES: The meeting will be held on May 7-9, 2013, from 8:30 a.m. to 6:00 p.m. on Tuesday, 8:30 a.m. to 5:30 p.m. on Wednesday, and 8:30 a.m. to 1:30 p.m. on Thursday, Mountain Time.

ADDRESSES: The meeting will be held at the Hilton Fort Collins, 425 West Prospect Road, Fort Collins, Colorado 80526.

Written comments may be submitted as described under Supplementary Information. All comments, including names and addresses when provided, are placed in the record and are available for public inspection and copying. The public may inspect comments received at 1601 N Kent Street, Arlington, VA 22209, 6th Floor. Please contact ahead of time, Chalonda Jasper at 202-260-9400, cjasper@fs.fed.us, to facilitate entry into the building to view comments.

FOR FURTHER INFORMATION CONTACT: Chalonda Jasper, Ecosystem Management Coordination, 202-260-9400, cjasper@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: (1) Initial deliberations on formulating advice for the Secretary on the Proposed Land Management Planning Directives, (2) discuss findings from committee working groups, and (3) administrative tasks. Further information, including the meeting agenda, will be posted on the Planning Rule Advisory Committee Web site at http://www.fs.usda.gov/main/planningrule/committee.

Anyone who would like to bring related matters to the attention of the committee may file written statements with the committee staff before the meeting. Written comments must be sent to USDA Forest Service, Ecosystem Management Coordination, 201 14th Street SW., Mail Stop 1104, Washington, DC, 20250-1104. Comments may also be sent via email to Chalonda Jasper at cjasper@fs.fed.us, or via facsimile to 703-235-0138. A summary of the meeting will be posted at http://www.fs.usda.gov/main/planningrule/committee within 21 days of the meeting.

Meeting Accommodations: If you require sign language interpreting, assistive listening devices or other reasonable accommodation, please submit request prior to the meeting by contacting Chalonda Jasper at 202-260-9400, cjasper@fs.fed.us. All reasonable accommodation requests are managed on a case-by-case basis.

Dated: April 11, 2013.
James W. Peña,
Associate Deputy Chief, National Forest System.

[FR Doc. 2013-09110 Filed 4-17-13; 8:45 am]

BILLING CODE 3410-11-P